FEDERAL COMMUNICATIONS COMMISSION

47 CFR Part 64

[WC Docket No. 12-375; DA 21-978; FR ID 44950]

Rates for Interstate Inmate Calling Services

AGENCY: Federal Communications Commission.

ACTION: Proposed rule; extension of comment period.

SUMMARY: In this document, the Federal Communications Commission is extending the time to file comments and reply comments in this proceeding in order to afford interested parties sufficient time to prepare them.

DATES: Comments are due on or before September 27, 2021. Reply Comments are due on or before October 27, 2021.

ADDRESSES: You may submit comments, identified by WC Docket No. 12-375, by any of the following methods:

• Electronic Filers: Comments may be filed electronically using the internet by accessing the ECFS: http://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: Simon Solemani, Pricing Policy Division of the Wireline Competition Bureau, at (202) 418-2270 or via email at simon.solemani@fcc.gov.

SUPPLEMENTARY INFORMATION: This is a summary of the Commission's Order, DA 21-978, adopted and released on August 10, 2021. The full text of this document is available at: https://docs.fcc.gov/public/attachments/DA-21-978A1.pdf. The full text of Telecommunications for the Deaf and Hard of Hearing, Inc. (TDI)'s motion is available at: https://ecfsapi.fcc.gov/file/10802213863368/2021.08.02%20Advocates%20Carceral%20Comms%20Motion%20for%20Extension%20final.pdf.

1. By this Order, the Wireline Competition Bureau (Bureau) of the Federal Communications Commission grants an extension of time for filing comments and reply comments on the Fifth FNPRM (86 FR 40416) in the above-captioned proceeding. As a result, comments are now due on September 27, 2021 and reply comments are now due on October 27, 2021.

2. On May 24, 2021, the Commission released the ICS Third Report and Order, Order on Reconsideration, and Fifth Further Notice of Proposed Rulemaking in this proceeding. The Fifth FNPRM set deadlines for filing comments and reply comments at 30 and 60 days, respectively, after a summary of the item was published in the Federal Register. The Federal Register published that summary on July 28, 2021, and established deadlines of August 27, 2021 and September 27, 2021 for filing comments and reply comments, respectively.

3. On August 3, 2021, Telecommunications for the Deaf and Hard of Hearing, Inc. (TDI), supported by the Benton Institute for Broadband & Society, HEARD, the Human Rights Defense Center, the National Association of the Deaf (NAD), Public Knowledge, the United Church of Christ, OC Inc., Voqal, and Worth Rises (collectively, Movants) filed a Motion for Extension of Time seeking 30-day extensions of the comment and reply deadlines. Movants explain that “the Commission's important and numerous inquiries in the Fifth FNPRM are wide-ranging and complex, and affording additional time for organizations to develop their comments will ensure that a full record is developed.” Movants further explain that their ability to meet the current comment and reply comment deadlines is compromised due to staffing concerns during the month of August, a reply comment schedule condensed by two holidays, and the need for at least one of the movants to transition to new legal clinic staff between now and the filing deadlines. Movants assert that “a brief extension would provide the organizations and their counsel sufficient time to finish developing a full array of comments on the broad range of important issues presented by the Fifth [FNPRM].” No party has filed an opposition to the Movants' request.

4. As set forth in 47 CFR 1.46, it is the policy of the Commission that extensions of time shall not be routinely granted. Nevertheless, the Bureau finds that Movants have shown good cause for an extension of the comment and reply comment deadlines and that the public interest will be served by extending the comment deadline to September 27, 2021 and, extending the reply comment deadline to October 27, 2021.

5. Under these circumstances, and in the interest of allowing all parties an opportunity to fully and meaningfully respond to the comments and expert reports filed in response to the Fifth FNPRM, the Bureau agrees that an extension of the reply comment deadline is warranted.

6. This action is taken pursuant to delegated authority 47 CFR 0.291.

Federal Communications Commission.
Daniel Kahn,
Associate Bureau Chief, Wireline Competition Bureau.

[FR Doc. 2021-18754 Filed 8-31-21; 8:45 am]

BILLING CODE 6712-01-P